DEPARTMENT OF ENERGY

Federal Energy Regulatory Commission

[Project No. 12126-001]

Quantum Energy Solutions; Notice of Surrender of Preliminary Permit

October 22, 2002.

Take notice that Quantum Energy Solutions, permittee for the proposed Newport, Oregon Jetty Project, has requested that its preliminary permit be terminated. The permit was issued on March 13, 2002, and would have expired on February 28, 2005. The project would have been located on the Pacific Ocean and Yaquina River in Lincoln County, Washington.

The permittee filed the request on August 28, 2002, and the preliminary permit for Project No. 12126 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-27453 Filed 10-28-02; 8:45 am]

BILLING CODE 6717-01-P